DEPARTMENT OF TRANSPORTATION

Federal Railroad Administration

[Docket Number FRA-2016-0029]

Notice of Application for Approval of Discontinuance or Modification of a Railroad Signal System

In accordance with part 235 of Title 49 Code of Federal Regulations (CFR) and 49 U.S.C. 20502(a), this document provides the public notice that by a document dated February 26, 2016, the Canadian Pacific Railway (CP) petitioned the Federal Railroad Administration (FRA) seeking approval for the discontinuance or modification of a signal system. FRA assigned the petition Docket Number FRA-2016-0029.

Applicant: Canadian Pacific Railway, Ms. Cindy Ingram, Director S&C Maintenance—Southern Region, 3420 Miller Avenue, Davenport, IA 52802.

CP seeks approval of the discontinuance of the automatic block signal system in the Nahant Yard area from Milepost (MP) 194 to MP 198.6. The system spans two subdivisions: The Davenport Subdivision from MP 194 to MP 195.5 and the Ottumwa Subdivision from MP 195.51 to MP198.6, on the Quad Cities Division in Nahant, IA.

The reason for the request is to relieve congestion caused by the authority of the yard limits extending south of the current absolute signal located at MP 196.6. The block south of the absolute signal at MP 196.6, being occupied by yard operations, prevents the dispatcher from clearing signals northward at Control Point Montpelier at MP 205.5. This requires trains to stop while occupying highway-rail grade crossings and hand-line their route before proceeding northward.

With this discontinuance, the signals at MP 194 and MP 194.18 will be removed. The signals at MP196.5-6 will be relocated to MP 198.6-7, at the south end of Nahant Yard limits with a distant signal installed. The portion of track from MP193.0 to MP198.6 will be governed under the General Code of Operating Rules, Rule 6.13, Yard Limits, to protect train movements.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 6, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety Chief Safety Officer.

[FR Doc. 2016-09243 Filed 4-20-16; 8:45 am]

BILLING CODE 4910-06-P